NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 30, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the follwing means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note That The New Time Period For Requesting Copies Has Changed From 45 to 30 Days After Publication)

1. Department of Agriculture, National Agricultural Statistics Service (N1-355-07-1, 131 items, 110 temporary items). A comprehensive records schedule, including administrative agricultural census and survey records, web records, agency management records, agreements, communications records, and consultant and performance improvement records. Also included are records generated in the process of obtaining agricultural census and survey data, and editing, summarizing, tabulating, and producing reports and aggregate data from them. Proposed for permanent retention are recordkeeping copies of correspondence, speeches, and other records of high-level staff; press releases; census and survey publicity records; records of official boards, advisory committees, and conferences; directives; census questionnaires; data warehouse master files and documentation; publications; and published article manuscripts. This schedule authorizes the agency to apply the proposed disposition instructions to any recordkeeping medium.

2. Department of Defense, National Geospatial-Intelligence Agency (N1-537-03-7, 28 items, 21 temporary items). Working files and reference materials used in the study, determination, and definition of foreign geographic place names and inputs, master files, and documentation associated with an electronic information system used to collect and maintain foreign geographic place name data. Proposed for permanent retention are recordkeeping copies of records documenting program activities, policies, decisions, and procedures for the standardization of foreign geographic place names, technical studies, project files, foreign geographic place name electronic data and documentation, and foreign geographic place name card files.

3. Department of Justice, Federal Bureau of Investigation (N1-65-06-7, 4 items, 4 temporary items). Inputs, outputs, master file, and system documentation associated with an electronic information system used to track stolen art and artifacts.

4. Department of State, Bureau of Diplomatic Security (N1-59-07-4, 20 items, 17 temporary items). Records documenting antiterrorism assistance program law enforcement and security training activities. Included are daily and weekly summaries of program activities, course and program reporting material, student and course information, course instructional material, student participation material, working files, and administrative files documenting day-to-day housekeeping activities. Proposed for permanent retention are recordkeeping copies of Country Assessment Reports, Country Assistance Plans, and Annual Reports.

5. Department of Transportation, Federal Motor Carrier Safety Administration (N1-557-05-8, 42 items, 34 temporary items). Records accumulated within the Office of Policy and Program Development. Included are budget background records, chronological files, driver exemptions and waiver files, audit reports, safety recommendation files, complaint files, petitions for rulemaking files, policy and planning subject files and research reports, reference files, and waiver, exemptions, and pilot program files. Proposed for permanent retention are recordkeeping copies of formal interpretations of regulations, evidence reports and other program and scientific documents, multi-year planning documents, and public docket files. This schedule authorizes the agency to apply the proposed disposition instructions to any recordkeeping medium.

6. Department of Transportation, National Highway Traffic Safety Administration (N1-416-07-1, 5 items, 5 temporary items). Records of the Office of Civil Rights, including administrative and compliance correspondence and reports. This schedule authorizes the agency to apply the proposed disposition instruction to any recordkeeping medium.

7. Department of the Treasury, Office of Thrift Supervision (N1-483-07-3, 7 items, 7 temporary items). Records of the Planning Budget and Finance Office relating to budget and accounting procedures. This schedule authorizes the agency to apply the proposed disposition instructions to any recordkeeping medium.

8. Commodity Futures Trading Commission, Division of Enforcement (N1-180-07-1, 3 items, 3 temporary items). Records associated with investigatory case files, reparations complaint files, and routine litigation case files. Paper recordkeeping copies of these files were previously approved for disposal. This schedule authorizes the agency to apply the proposed disposition instructions to any recordkeeping medium.

9. National Aeronautics and Space Administration, Agency-wide, (N1-255-06-1, 2 items, 2 temporary items). Records of management offices, including general subject files, briefings, reports, presentations, office operational records, and records of management functions. This schedule authorizes the agency to apply the proposed disposition instructions to any recordkeeping medium.

10. National Aeronautics and Space Administration, Agency-wide, (N1-255-07-1, 1 item, 1 temporary item). Trademark records including correspondence, applications, notification files and infringement case files, and other records relating to efforts by the agency to obtain trademark registrations at the Patent and Trademark Office. This schedule authorizes the agency to apply the proposed disposition instructions to any recordkeeping medium.

11. National Archives and Records Administration, Agency-wide (N1-64-07-2, 8 items, 8 temporary items). Records of the NARA Online Ordering System for managing web-based customer orders for products and services. Included are records used for submitting orders for reproductions of popular documents and for researching orders, and a tracking system used to track and fill online orders.

12. National Archives and Records Administration, Office of Administrative Services (N1-64-07-3, 6 items, 6 temporary items). Records documenting customer orders for products and services and related reports and summaries. Included are order history files, transaction files, summaries and statistical reports, and order fulfillment tracking and payment records.

13. Tennessee Valley Authority, Human Resources Division (N1-142-07-1, 5 items, 5 temporary items). Inputs, master files, and outputs relating to the testing of job applicants. Included are such records as personal data concerning applicants, test results, form letters notifying applicants of test scores, reports which summarize all applicant scores for each test, and automated indexes.

Dated: April 20, 2007.
Michael J. Kurtz,
Assistant Archivist for Records Services—Washington, DC.

[FR Doc. E7-8150 Filed 4-27-07; 8:45 am]

BILLING CODE 7515-01-P